DEPARTMENT OF COMMERCE

National Oceanic and Atmospheric Administration

[RTID 0648-XA321]

Marine Mammals; File No. 23932; Correction

AGENCY: National Marine Fisheries Service (NMFS), National Oceanic and Atmospheric Administration (NOAA), Commerce.

ACTION: Notice; receipt of application; correction.

SUMMARY: On July 20, 2020, a notice was published in the Federal Register announcing that NMFS had received an application for a permit (File No. 23932) from the New York Genome Center, 101 Avenue of the Americas, New York City, NY 10013 [Responsible Party: Catherine Reeves]. That document contained an error regarding the number of individual humpback whales (Megaptera novaeangliae) from which samples were requested for import annually. This document corrects this error. All other information is unchanged.

FOR FURTHER INFORMATION CONTACT: Jennifer Skidmore or Carrie Hubard, (301) 427-8401.

SUPPLEMENTARY INFORMATION: The notice of receipt for a permit (85 FR 43818; July 20, 2020) contained an error in that it incorrectly noted that the applicant proposed to import biological samples from up to six individual humpback whales (East Australia distinct population segment) annually. In fact, the applicant has requested to import unlimited biological samples from a maximum of 10 individual humpback whales (East Australia distinct population segment) annually.

All other information contained in the document is unchanged.

Correction

In the Federal Register of July 20, 2020, in FR Doc. 2020-15565, on page 43818, in the second column, in the second paragraph under the SUPPLEMENTARY INFORMATION heading, the first sentence is corrected to read as follows:

The applicant has requested to import unlimited biological samples from a maximum of 10 individual humpback whales (East Australia distinct population segment) annually.

Dated: July 29, 2020.
Julia Marie Harrison,
Chief, Permits and Conservation Division, Office of Protected Resources, National Marine Fisheries Service.

[FR Doc. 2020-16859 Filed 8-3-20; 8:45 am]

BILLING CODE 3510-22-P